DEPARTMENT OF AGRICULTURE

Rural Utilities Service

Basin Electric Power Cooperative, Inc.: Notice of Availability of an Environmental Assessment

AGENCY: Rural Utilities Service, USDA.

ACTION: Notice of availability of an environmental assessment.

SUMMARY: Notice is hereby given that the Rural Utilities Service (RUS) is issuing an environmental assessment (EA) in connection with possible impacts related to a project proposed by Basin Electric Power Cooperative, Inc. (Basin), of Bismarck, North Dakota. The proposal includes the construction and operation of a wind turbine generation facility referred to as the Prairie Winds-ND1 Project consisting of a 77-turbine, 115 megawatt (MW) facility at a site near Minot, North Dakota.

DATES: Written comments on this Notice must be received on or before July 24, 2009.

FOR FURTHER INFORMATION CONTACT: To obtain copies of the EA or for further information, contact Dennis E. Rankin, Environmental Protection Specialist, USDA, RUS, Engineering and Environmental Staff, Stop 1571, 1400 Independence Avenue, SW., Washington, DC 20250-1571, or e-mail: dennis.rankin@wdc.usda.gov; or Kevin L. Solie, Basin Electric Power Cooperative, Inc., 1717 East Interstate Avenue, Bismarck, ND 58503-0564, telephone: (701) 355-5495, or e-mail: ksolie@bepc.com. A copy of the EA may be viewed on line at the Agency's Web site: http://www.usda.gov/rus/water/ees/ea.htm and at the following locations:

Rural Utilities Service, 1400 Independence Avenue, SW., Room 2244, Washington, DC 20250.

Basin Electric Power Cooperative, 1717 East Interstate Ave., Bismarck, ND 58503-0564.

Questions and comments should be sent to Mr. Rankin at the address provided.

SUPPLEMENTARY INFORMATION: Basin Electric proposes to construct a new 115 MW wind generation facility in north-central North Dakota. The project will include seventy-seven (77) 1.5 MW wind turbine generators.

Tetra Tech, an environmental consultant, prepared an EA for RUS that describes the project and assesses the proposed project's environmental impacts. RUS has conducted an independent evaluation of the EA and believes that it accurately assesses the impacts of the proposed project. No significant impacts are expected as a result of the construction of the project.

Any final action by RUS related to the proposed project will be subject to, and contingent upon, compliance with all relevant Federal environmental laws and regulations and completion of environmental review procedures as prescribed by 7 CFR Part 1794, Environmental Policies and Procedures.

Dated: June 17, 2009.
Richard Fristik,
Acting Director, Engineering and Environmental Staff.

[FR Doc. E9-14773 Filed 6-23-09; 8:45 am]

BILLING CODE P